ENVIRONMENTAL PROTECTION AGENCY

[OPP-2002-0127; FRL-7188-9]

Availability of the Tolerance Reassessment Decision (TRED) for Trichlorfon

AGENCY: Environmental Protection Agency (EPA).

ACTION: Notice.

SUMMARY: This notice announces the availability of the tolerance reassessment decision document for trichlorfon. The trichlorfon document, referred to as a TRED, is the Agency's Report of the Food Quality Protection Act (FQPA) Tolerance Reassessment Progress and Interim Risk Management Decision for Trichlorfon. The documents have been developed using a public participation process designed by EPA and the U.S. Department of Agriculture (USDA) to involve the public in the reassessment of pesticide tolerances under the FQPA and the reregistration of individual organophosphates (OPs) under the Federal Insecticide, Fungicide, and Rodenticide Act (FIFRA).

DATES: EPA is maintaining an open docket for trichloron under docket ID number, OPP-2002-0127. The Agency will place any new comments there for future consideration. To ensure proper receipt by EPA, it is imperative that you identify docket ID number OPP-2002-0127 in the subject line on the first page of your response.

ADDRESSES: Comments may be submitted by mail, electronically, or in person. Please follow the detailed instructions for each method as provided in Unit I. of the SUPPLEMENTARY INFORMATION. To ensure proper receipt by EPA, it is imperative that you identify docket ID number OPP-2002-0127 in the subject line on the first page of your response.

FOR FURTHER INFORMATION CONTACT: By mail: Kylie Rothwell, Special Review and Reregistration Division (7508C), Office of Pesticide Programs, Environmental Protection Agency, 1200 Pennsylvania Ave., NW., Washington, DC 20460; telephone number: (703) 308-8055; e-mail address: rothwell.kylie@epa.gov.

SUPPLEMENTARY INFORMATION:

I. General Information

A. Does this Action Apply to Me?

This action is directed to the public in general. This action may, however, be of interest to persons who are or may be required to conduct testing of chemical substances under FIFRA or the Federal Food, Drug, and Cosmetic Act (FFDCA); environmental, human health, and agricultural advocates; pesticides users; and members of the public interested in the use of pesticides. Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically.You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

To access reregistration eligibility decision (RED) documents and fact sheets electronically, go directly to the documents on TREDs table on EPA's Office of Pesticide Programs Home Page, at http://www.epa.gov/pesticides/reregistration.

2. In person. The Agency has established an official record for this action under docket ID number OPP-2002-0127. The official record consists of the documents specifically referenced in this action, and other information related to this action, including any information claimed as Confidential Business Information (CBI). This official record includes the documents that are physically located in the docket, as well as the documents that are referenced in those documents. The public version of the official record does not include any information claimed as CBI. The public version of the official record, which includes printed, paper versions of any electronic comments submitted during an applicable comment period is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket ID number OPP-2002-0127 in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

D. How Should I Handle CBI That I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this document.

8. To ensure proper receipt by EPA, be sure to identify the docket ID number assigned to this action in the subject line on the first page of your response. You may also provide the name, date, and Federal Registercitation.

II. What Action is the Agency Taking?

These documents were developed using the OP public participation process. The process was designed to increase transparency and maximize stakeholder involvement, and provides numerous opportunities for public comment. EPA has also conducted extensive outreach to affected parties. EPA is taking this action without a formal comment period. The public participation process for trichlorfon provided opportunities for public comment as EPA developed these decisions. To read more about the OP public participation process, see http://www.epa.gov/pesticides/op/process.htm. Below is a brief summary of EPA's interim decisions, which are fully described in the TRED or interim reregistration eligibility decision (IRED) documents.

A. Trichlorfon Decision

EPA has reassessed risks from non-occupational exposure to trichlorfon through food, drinking water, and residential uses. Trichlorfon is not expected to pose risk concerns for these exposures provided that risk mitigation measures identified in the TRED for trichlorfon are adopted. Under the FQPA, EPA must review tolerances and tolerance exemptions that were already in effect when Congress enacted the FQPA in August 1996, to ensure that existing pesticide residue limits for food and feed commodities meet the safety standard of the new law. EPA completed a RED for trichlorfon in September 1995, prior to FQPA enactment, and therefore needed an updated assessment to consider the provisions of the Act. In reviewing these tolerances, the Agency must consider, among other things, aggregate risks from non-occupational sources of pesticide exposure, whether there is increased susceptibility to infants and children, and the cumulative effects of pesticides with a common mechanism of toxicity. Once the Agency has considered the cumulative risks for the OPs, tolerances for trichlorfon will be reassessed in that light.

The Agency also reevaluated the occupational risks for trichlorfon, based on newly submitted data associated with the current non-agricultural uses. Risk mitigation measures to be implemented for these uses included:

1. Limiting application of trichlorfon to tees and greens of golf course turf.

2. Cancelling foliar application of trichlorfon to ornamental plants (only direct application to soil is allowed).

3. Allowing only truck-drawn spraying of large ponds for ornamentals and bait fish, and requiring an on-off switch inside the truck cab.

B. Next steps

EPA's next step under FQPA is to consider a cumulative risk assessment and risk management decision for the OP pesticides, which share a common mechanism of toxicity. Because the Agency has not yet considered the cumulative risks for the OPs, the Agency's interim decisions do not fully satisfy the reassessment of the existing food residue tolerances as required by FQPA. When the Agency has considered the cumulative risks for the OPs, then the tolerances for OP pesticides will be reassessed in this light. At that time, the Agency will complete the FQPA requirements for the OPs and, where required, make final REDs, which may include further risk mitigation measures.

List of Subjects

Environmental protection, Chemicals, Pesticides and pests.

Dated: July 29, 2002.
Lois A. Rossi,
Director, Special Review and Reregistration Division, Office of Pesticide Programs.

[FR Doc. 02-19694 Filed 8-6-02; 8:45 am]

BILLING CODE 6560-50-S